DEPARTMENT OF ENERGY

Federal Energy Regulatory Commission

Combined Notice of Filings #2

Take notice that the Commission received the following electric corporate filings:

Docket Numbers: EC15-157-000.

Applicants: Pennsylvania Electric Company, Metropolitan Edison Company, Jersey Central Power & Light Co., FirstEnergy Transmission, LLC, Mid-Atlantic Interstate Transmission, LL.

Description: Response of Pennsylvania Electric Company, et al., to August 28, 2015 Commission letter requesting additional information.

Filed Date: 9/28/15.

Accession Number: 20150928-5341.

Comments Due: 5 p.m. ET 10/19/15.

Take notice that the Commission received the following electric rate filings:

Docket Numbers: ER13-948-007.

Applicants: Entergy Services, Inc., Entergy Arkansas, Inc., Entergy Gulf States Louisiana, L.L.C., Entergy Louisiana, LLC, Entergy Mississippi, Inc., Entergy New Orleans, Inc., Entergy Texas, Inc.

Description: Entergy Services, Inc., on behalf of the Entergy Operating Companies, submits transmission formula rate implementation timeline and deadlines for 2015-16 rate year.

Filed Date: 9/28/15.

Accession Number: 20150928-5345.

Comments Due: 5 p.m. ET 10/19/15.

Docket Numbers: ER15-2741-000.

Applicants: Arizona Public Service Company.

Description: § 205(d) Rate Filing: Service Agreement No. 346—City of Williams to be effective 12/1/2015.

Filed Date: 9/29/15.

Accession Number: 20150929-5190.

Comments Due: 5 p.m. ET 10/20/15.

Docket Numbers: ER15-2742-000.

Applicants: Panda Patriot LLC.

Description: Baseline eTariff Filing: FERC Electric Tariff, Volume No. 1 (MBR Application) to be effective 11/13/2015.

Filed Date: 9/29/15.

Accession Number: 20150929-5221.

Comments Due: 5 p.m. ET 10/20/15.

Take notice that the Commission received the following land acquisition reports:

Docket Numbers: LA15-3-000.

Applicants: Consolidated Edison Company of New York, Inc., Consolidated Edison Energy, Inc, Consolidated Edison Solutions, Inc., Orange and Rockland Utilities, Inc., CED White River Solar, LLC, CED White River Solar 2, LLC, Alpaugh North, LLC, Alpaugh 50, LLC, Broken Bow Wind II, LLC, Copper Mountain Solar 2, LLC, Copper Mountain Solar 3, LLC, Mesquite Solar 1, LLC, Campbell County Wind Farm, LLC.

Description: Quarterly Land Acquisition Report of Consolidated Edison Company of New York, Inc., et. al.

Filed Date: 9/29/15.

Accession Number: 20150929-5153.

Comments Due: 5 p.m. ET 10/20/15.

Take notice that the Commission received the following electric reliability filings:

Docket Numbers: RR15-16-000.

Applicants: North American Electric Reliability Corporation.

Description: Response of North American Electric Reliability Corporation's to September 15, 2015 Commission letter requesting additional information.

Filed Date: 9/29/15.

Accession Number: 20150929-5218.

Comments Due: 5 p.m. ET 10/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2015.
Nathaniel J. Davis, Sr.,
Deputy Secretary.

[FR Doc. 2015-25654 Filed 10-7-15; 8:45 am]

BILLING CODE 6717-01-P